DEPARTMENT OF THE INTERIOR

National Park Service

[NPS-WASO-NAGPRA-NPS0035950; PPWOCRADN0-PCU00RP14.R50000]

Notice of Inventory Completion: Kansas State University, Manhattan, KS

AGENCY: National Park Service, Interior.

ACTION: Notice.

SUMMARY: In accordance with the Native American Graves Protection and Repatriation Act (NAGPRA), Kansas State University has completed an inventory of human remains and associated funerary objects and has determined that there is no cultural affiliation between the human remains and associated funerary objects and any Indian Tribe. The human remains and associated funerary objects were removed from Doniphan County, KS.

DATES: Disposition of the human remains and associated funerary objects in this notice may occur on or after July 3, 2023.

ADDRESSES: Megan Williamson, Department of Sociology, Anthropology, and Social Work, Kansas State University, 204 Waters Hall, 1603 Old Claflin Place, Manhattan, KS 66506-4003, telephone (785) 532-6005, email mwillia1@ksu.edu.

SUPPLEMENTARY INFORMATION: This notice is published as part of the National Park Service's administrative responsibilities under NAGPRA. The determinations in this notice are the sole responsibility of Kansas State University. The National Park Service is not responsible for the determinations in this notice. Additional information on the determinations in this notice, including the results of consultation, can be found in the inventory or related records held by Kansas State University.

Description

Human remains representing, at minimum, 28 individuals were removed from Taylor Mound, located south of White Cloud, in Doniphan County, KS. In the summer of 1968, Taylor Mound was excavated as part of a Kansas State University archeological field school, under the direction of archeologist Dr. Patricia J. O'Brien. Radiocarbon dating of charcoal and burned wood samples collected at the site yielded dates corresponding to the Middle Woodland period (354 BC/BCE-A.D. 398). These dates also are consistent with most of the diagnostic artifacts recovered from the burial site. (Some pottery from the excavation also suggests the mound was utilized into the Late Prehistoric period and was associated with the Central Plains tradition (A.D. 1100-1350). In addition, two osteological studies were completed on the skeletal remains excavated from Taylor Mound. In 1971, Linda Klepinger and William M. Bass published the initial analysis, and in 2009, Lee Meadows Jantz, Richard L. Jantz, and Rebecca J. Wilson completed a second analysis. No known individuals were identified. The 1,390 associated funerary objects are 912 pieces of stone debitage, 10 hammerstones, nine bifaces, nine stone points, five scrapers, one celt, one stone bead, one stone blade, 200 unmodified shells, one modified bone disc, two turtle shell fragments, 212 ceramic body sherds, 10 ceramic rim sherds, one lot of burned animal bones, one lot of unburned animal bones, 12 charcoal samples, two sediment samples containing burned earth, and one metal broom handle that was excavated but is believed to be part of a previous site disturbance.

Aboriginal Land

The human remains and associated funerary objects in this notice were removed from known geographic locations. These locations are the aboriginal lands of one or more Indian Tribes. The following information was used to identify the aboriginal land: treaties.

Determinations

Pursuant to NAGPRA and its implementing regulations, and after consultation with the appropriate Indian Tribes, Kansas State University has determined that:

• The human remains described in this notice represent the physical remains of 28 individuals of Native American ancestry.

• The 1,390 objects described in this notice are reasonably believed to have been placed with or near individual human remains at the time of death or later as part of the death rite or ceremony.

• No relationship of shared group identity can be reasonably traced between the human remains and associated funerary objects and any Indian Tribe.

• The human remains and associated funerary objects described in this notice were removed from the aboriginal land of the Iowa Tribe of Kansas and Nebraska; Kaw Nation, Oklahoma; Kickapoo Traditional Tribe of Texas; Kickapoo Tribe of Indians of the Kickapoo Reservation in Kansas; Kickapoo Tribe of Oklahoma; Pawnee Nation of Oklahoma; Ponca Tribe of Indians of Oklahoma; Ponca Tribe of Nebraska; Sac & Fox Nation of Missouri in Kansas and Nebraska; Sac & Fox Nation, Oklahoma; Sac & Fox Tribe of the Mississippi in Iowa; Three Affiliated Tribes of the Fort Berthold Reservation, North Dakota; and the Wichita and Affiliated Tribes (Wichita, Keechi, Waco, & Tawakonie), Oklahoma.

Requests for Disposition

Written requests for disposition of the human remains and associated funerary objects in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains and associated funerary objects described in this notice to a requestor may occur on or after July 3, 2023. If competing requests for disposition are received, Kansas State University must determine the most appropriate requestor prior to disposition. Requests for joint disposition of the human remains and associated funerary objects are considered a single request and not competing requests. Kansas State University is responsible for sending a copy of this notice to the Indian Tribes identified in this notice.

Authority: Native American Graves Protection and Repatriation Act, 25 U.S.C. 3003, and the implementing regulations, 43 CFR 10.9 and 10.11.

Dated: May 24, 2023.
Melanie O'Brien,
Manager, National NAGPRA Program.

[FR Doc. 2023-11694 Filed 5-31-23; 8:45 am]

BILLING CODE 4312-52-P